DEPARTMENT OF THE INTERIOR

Bureau of Land Management

[LLWO260000.L10600000.PC0000.LXSIADVSBD00.19X]

Wild Horse and Burro Advisory Board Meeting

AGENCY: Bureau of Land Management, Interior.

ACTION: Notice of advisory board meetings.

SUMMARY: In accordance with the Federal Land Policy and Management Act of 1976 and the Federal Advisory Committee Act of 1972, the U.S. Department of the Interior, Bureau of Land Management (BLM) Wild Horse and Burro Advisory Board (Advisory Board) will meet as indicated below.

DATES: The Advisory Board will hold a summer public meeting on July 9-11, 2019, in Boise, Idaho. The Advisory Board will also hold a fall public meeting October 29-31, 2019, in Washington, DC.

ADDRESSES: The July meeting will be held at the Hilton Garden Inn Downtown Boise, 348 S 13th Street, Boise, ID 83702; telephone: (208) 342-7000. Further hotel information is available at https://hiltongardeninn3.hilton.com/en/hotels/idaho/hilton-garden-inn-boise-downtown-BOIDOGI/index.html. The October meeting will be held at the Phoenix Park Hotel at 520 North Capitol Street NW, Washington, DC 20001, telephone (202) 638-6900; and at 20 F Street Conference Center at 20 F Street, Suite 1000, NW, Washington, DC 20001; telephone (202) 295-8100. Further information on the hotel and conference center is available at https://www.phoenixparkhotel.com/ and https://www.20fstreetcc.com/.

Written comments pertaining to the meeting and written statements that will be presented to the Advisory Board may be filed in advance of the meeting and sent to the U.S. Department of the Interior, BLM, Attention: Advisory Board (WO-260), 20 M Street SE (Room 2134 LM), Washington, DC 20003 or emailed to: whbadvisoryboard@blm.gov. Please include “Advisory Board Comment” in the subject line of the email.

FOR FURTHER INFORMATION CONTACT: Dorothea Boothe, Acting Wild Horse and Burro Program Coordinator, at (202) 912-7654 or by email at dboothe@blm.gov. Individuals that use a telecommunications device for the deaf (TDD) may call the Federal Relay Service (FRS) at (800) 877-8339 to contact Ms. Boothe during normal business hours. The FRS is available 24 hours a day, 7 days a week. All responses will be during normal business hours.

SUPPLEMENTARY INFORMATION: The Advisory Board advises the Secretary of the Interior, the BLM Director, the Secretary of Agriculture, and the Chief of the U.S. Forest Service on matters pertaining to the management and protection of wild, free-roaming horses and burros on the Nation's public lands. The Advisory Board operates under the authority of 43 CFR 1784.

I. Advisory Board July Public Meeting Agenda

Tuesday, July 9 (7:30 a.m.-5:30 p.m. MT)

Field Trip to Sands Basin Herd Management Area—7:30 a.m.-Noon

(Public attendance is limited and on a first-come, first-served advance sign up.) Attendees must provide their own transportation (high-clearance vehicle recommended) and personal needs. To sign up, email Ms. Boothe at dboothe@blm.gov by June 25.

Advisory Board Working Group Meetings—1:15 to 5:30 p.m.

Wednesday, July 10 (8:00 a.m.-5:00 p.m. MT)

Welcome, Introductions, and Agenda Review

Advisory Board General Business

Off-Range Program Presentations

Thursday, July 11 (8:00 a.m.-5:00 p.m. MT)

Welcome, Introductions, and Agenda Review

Advisory Board General Business

Public Comment Period (1:15-3:30 p.m.)

Advisory Board Discussion and Recommendations

Other Topics of Interest to the Advisory Board

Advisory Board meetings are open to the public in their entirety, and will be live-streamed at www.blm.gov/live. The BLM will post the final agenda 2 weeks prior to the meeting online at www.blm.gov/programs/wild-horse-and-burro/get-involved/advisory-board. The meeting sites are accessible to individuals with disabilities. Any person(s) with special needs, such as an auxiliary aid; interpreting service; assistive listening device; or materials in an alternate format, must notify Ms. Boothe 2 weeks before the scheduled meeting date. It is important to adhere to the 2-week notice to allow sufficient time to arrange for the auxiliary aid or special service.

The final October public meeting agenda will be posted 2 weeks prior to the meeting on the BLM web page at: www.blm.gov/programs/wild-horse-and-burro/get-involved/advisory-board. A public comment period is tentatively scheduled for October 31.

II. Public Comment Procedures

Members of the public will have an opportunity to make statements at the summer and fall meetings regarding the Wild Horse and Burro Program on Thursday afternoon. Individuals interested in making comments during the open comment period should register in person with the BLM 2 hours prior to the comment period at the meeting location. The Advisory Board may limit the length of comments, depending on the number of participants. All individuals interested in commenting may submit comments. Please see the ADDRESSES section earlier for the BLM physical and email addresses, or bring a written copy of your statement to the meeting if you plan to attend. If emailing, please include “Advisory Board Comment” in the subject line. The BLM will record the entire meeting, including the allotted comment time. The BLM welcomes comments from all interested parties, not just the individuals who will attend and comment at the Advisory Board meeting. Comments should be specific and explain the reason for the recommendation(s). Comments supported by quantitative information, studies, or those that include citations and analysis of applicable laws and regulations are most beneficial and more useful and likely to assist the decision-making process for the management and protection of wild horses and burros.

Before including your address, phone number, email address, or other personal identifying information in your comment, you should be aware that your entire comment—including your personal identifying information—may be made publicly available at any time. While you can ask us in your comment to withhold your personal identifying information from public review, the BLM cannot guarantee that it will be able to do so.

Authority: 43 CFR 1784.4-2.

Leah Baker,
Acting Assistant Director, Resources and Planning.

[FR Doc. 2019-12061 Filed 6-6-19; 8:45 am]

BILLING CODE 4310-84-P